DEPARTMENT OF COMMERCE

National Oceanic and Atmospheric Administration

[I.D. 121205B]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Shrimp Advisory Panel (AP).

DATES: The Shrimp AP meeting is scheduled to begin at 8:30 a.m. on Thursday, January 5, 2006.

ADDRESSES: The meeting will be held at the Spring Hill Suites Houston Hobby Airport, 7922 Mosley Road, Houston, Texas 77061.

Council address: Gulf of Mexico Fishery Management Council, 2203 North Lois Avenue, Suite 1100, Tampa, FL 33607.

FOR FURTHER INFORMATION CONTACT: Dr. Richard Leard, Deputy Executive Director; telephone (813) 348-1630.

SUPPLEMENTARY INFORMATION: The Shrimp AP will receive reports from the National Marine Fisheries Service (NMFS) on the status and health of the shrimp stocks as well as a report on the biological and economic aspects of the 2005 Cooperative Shrimp Closure with the state of Texas. The Shrimp AP may make recommendations for a cooperative closure with Texas for 2006. The Shrimp AP will review scoping documents for both Amendment 27 to the Reef Fish Fishery Management Plan (FMP)/Amendment 14 to the Shrimp FMP and Amendment 28 to the Reef Fish FMP/Amendment 15 to the Shrimp FMP. Joint Reef Fish Amendment 27/Shrimp Amendment 14 proposes actions that deal with adjustments to the total allowable catch (TAC) for red snapper; size limits; bag limits; recreational season dates; and the certification of new shrimp bycatch reduction devices (BRDs). The amendment will also look at shrimp limits on trawling gear, shrimp restrictions on the transfer of vessel permits, and possible area closures for shrimp.

Joint Reef Fish Amendment 28/Shrimp Amendment 15 will consider such issues as gear restrictions for the reef fish fishery; establishing commercial fishing seasons; further reducing bycatch; as well as other management alternatives.

The Shrimp AP consists principally of commercial shrimp fishermen, dealers, and association representatives.

Although other non-emergency issues not on the agenda may come before the AP for discussion, in accordance with the Magnuson-Stevens Fishery Conservation and Management Act (M-SFCMA), those issues may not be the subject of formal action during these meetings. Actions of the AP will be restricted to those issues specifically identified in the agenda and any issues arising after publication of this notice that require emergency action under section 305(c) of the Magnuson-Stevens Act, provided the public has been notified of the Council's intent to take action to address the emergency. Copies of the agenda can be obtained by calling (813) 348-1630.

Special Accommodations

This meeting is physically accessible to people with disabilities. Requests for sign language interpretation or other auxiliary aids should be directed to Dawn Aring at the Council (see ADDRESSES) at least 5 working days prior to the meeting.

Dated: December 12, 2005.
Emily Menashes,
Acting Director, Office of Sustainable Fisheries, National Marine Fisheries Service.

[FR Doc. E5-7386 Filed 12-14-05; 8:45 am]

BILLING CODE 3510-22-S